DEPARTMENT OF THE INTERIOR

Bureau of Indian Affairs

25 CFR Part 169

[Docket ID: BIA-2014-0001; DR.5B711.IA000814]

RIN 1076-AF20

Rights-of-Way on Indian Land

AGENCY: Bureau of Indian Affairs, Interior.

ACTION: Proposed rule; Reopening of comment period.

SUMMARY: This notice announces that the Department will accept comments on the proposed rule governing rights-of-way on Indian land until November 3, 2014.

DATES: Comments on this rule must be received by November 3, 2014.

ADDRESSES: You may submit comments by any of the following methods:

• Federal rulemaking portal: http://www.regulations.gov. The rule is listed under the agency name “Bureau of Indian Affairs.” The rule has been assigned Docket ID: BIA-2014-0001.

• Email: consultation@bia.gov. Include the number 1076-AF20 in the subject line.

• Mail or hand delivery: Ms. Elizabeth Appel, Office of Regulatory Affairs & Collaborative Action, U.S. Department of the Interior, 1849 C Street NW., MS 3642, Washington, DC 20240. Include the number 1076-AF20 on the envelope.

FOR FURTHER INFORMATION CONTACT: Elizabeth Appel, Director, Office of Regulatory Affairs & Collaborative Action, (202) 273-4680; elizabeth.appel@bia.gov.

SUPPLEMENTARY INFORMATION:

On June 17, 2014, we published a proposed rule to comprehensively update and streamline the process for obtaining BIA grants of rights-of-way on Indian land. See 79 FR 34455. On August 18, 20145, we published an extension of the comment period, establishing a new comment deadline of October 2, 2014. We have received several requests for an additional extension of the comment period. On October 1, 2014, we released a press release notifying the public that we are extending the comment period again to allow additional time for tribal and public comment. While our intention was to extend the comment period before it closed, circumstances prevented this. For this reason, we will accept all comments received between June 17, 2014, and November 3, 2014, including any comment received between October 2, 2014, and October 8, 2014.

Please note that none of the following will be considered or included in the docket for this rulemaking: Comments received after November 3, 2014; comments sent to an address other than those listed above; or anonymous comments.

The proposed rule, frequently asked questions, and other information are online at: http://www.bia.gov/WhoWeAre/AS-IA/ORM/RightsofWay/index.htm.

Dated: October 2, 2014.
Kevin K. Washburn,
Assistant Secretary—Indian Affairs.

[FR Doc. 2014-24023 Filed 10-7-14; 8:45 am]

BILLING CODE 4310-W7-P